DEPARTMENT OF THE INTERIOR

Geological Survey

[Docket Number USGS-2025-0039; GX25GB00PAMR000]

2025 Draft List of Critical Minerals

AGENCY: Geological Survey, Department of the Interior.

ACTION: Notice of opportunity for public comment.

SUMMARY: The United States remains heavily dependent on imports of certain mineral commodities that are vital to the Nation's economic and national security interests. This dependency has the potential to create strategic vulnerabilities arising from adverse foreign actions, pandemics, natural disasters, or other events that can disrupt the supply of critical minerals. The Department of the Interior (DOI) published Lists of Critical Minerals in 2018 ¹ and 2022.² Section 7002 of the Energy Act of 2020 requires the U.S. Geological Survey (USGS) on behalf of the Secretary of the Interior (Secretary) to update the List of Critical Minerals every three years. This is a Notice of an opportunity to comment on the 2025 draft List of Critical Minerals.

DATES: To ensure consideration, written comments must be submitted before September 25, 2025.

ADDRESSES: You may submit written comments online at http://www.regulations.gov by entering “USGS-2025-0039” in the Search bar and clicking “Search,” or by mail to 2025 draft List of Critical Minerals, MS-913, U.S. Geological Survey, 12201 Sunrise Valley Dr., Reston, VA 20192.

FOR FURTHER INFORMATION CONTACT: By email at minerals@usgs.gov or Jenifer Bracewell by telephone at (703) 648-5276. Individuals in the United States who are deaf, deafblind, hard of hearing, or have a speech disability may dial 711 (TTY, TDD, or TeleBraille) to access telecommunications relay services. Individuals outside the United States should use the relay services offered within their country to make international calls to the point-of-contact in the United States. The Federal Relay Services (FRS) is available 24 hours a day, 7 days a week, to leave a message or question with this individual. You will receive a reply during normal business hours. Normal business hours are 9:00 a.m. to 5:30 p.m., Monday through Friday, except for Federal holidays.

SUPPLEMENTARY INFORMATION: Pursuant to Section 7002 (“Mineral Security”) of Title VII (“Critical Minerals”) of the Energy Act of 2020 (The Energy Act) (Pub. L. 116-260, December 27, 2020, 116th Cong.),³ the Secretary, acting through the Director of the U.S. Geological Survey, and in consultation with the Secretaries of Defense, Commerce, Agriculture, and Energy and the United States Trade Representative, is required to “publish in the Federal Register for public comment—(A) a description of the draft methodology used to identify a draft list of critical minerals; (B) a draft list of minerals, elements, substances, and materials that qualify as critical minerals; and (C) a draft list of critical minerals recovered as byproducts and their host minerals.” Under the Energy Act, Section 7002 (c)(5)(A), the U.S. Geological Survey reviews the methodology and list at least every three years.

On behalf of the Secretary, the Acting Director of the USGS presents here a table with the draft list of 54 mineral commodities proposed for inclusion on the 2025 List of Critical Minerals.

Mineral commodities for inclusion on the 2025 List of Critical Minerals | Predominately produced as a byproduct | Main host commodities
Aluminum | No
Antimony | Yes | Lead, gold, other base and precious metals.
Barite | No
Beryllium | No
Bismuth | Yes | Lead, tungsten, copper, tin, molybdenum, fluorspar, zinc.
Cerium | Yes | Other rare earths, iron ore, heavy mineral sands (titanium, zirconium).
Cesium | No
Chromium | No
Cobalt | Yes | Nickel, copper.
Copper | No
Dysprosium | Yes | Other rare earths, iron ore, heavy mineral sands (titanium, zirconium).
Erbium | Yes | Other rare earths, iron ore, heavy mineral sands (titanium, zirconium).
Europium | Yes | Other rare earths, iron ore, heavy mineral sands (titanium, zirconium).
Fluorspar | No
Gadolinium | Yes | Other rare earths, iron ore, heavy mineral sands (titanium, zirconium).
Gallium | Yes | Bauxite and zinc.
Germanium | Yes | Zinc and coal fly ash.
Graphite | Yes (for synthetic graphite but not for natural graphite) | Needle coke (for synthetic graphite).
Hafnium | Yes | Zirconium.
Holmium | Yes | Other rare earths, iron ore, heavy mineral sands (titanium, zirconium).
Indium | Yes | Zinc.
Iridium | Yes | Platinum, nickel.
Lanthanum | Yes | Other rare earths, iron ore, heavy mineral sands (titanium, zirconium).
Lead | No
Lithium | No
Lutetium | Yes | Other rare earths, iron ore, heavy mineral sands (titanium, zirconium).
Magnesium | No
Manganese | No
Neodymium | Yes | Other rare earths, iron ore, heavy mineral sands (titanium, zirconium).
Nickel | No
Niobium | No
Palladium | Yes | Nickel, platinum.
Platinum | No
Potash | No
Praseodymium | Yes | Other rare earths, iron ore, heavy mineral sands (titanium, zirconium).
Rhenium | Yes | Molybdenum, copper.
Rhodium | Yes | Nickel, platinum.
Rubidium | Yes | Cesium, lithium.
Ruthenium | Yes | Nickel, platinum.
Samarium | Yes | Other rare earths, iron ore, heavy mineral sands (titanium, zirconium).
Scandium | Yes | Cobalt, nickel, titanium, zirconium.
Silicon | No
Silver | Yes | Zinc, lead, copper, gold.
Tantalum | No
Terbium | Yes | Other rare earths, iron ore, heavy mineral sands (titanium, zirconium).
Thulium | Yes | Other rare earths, iron ore, heavy mineral sands (titanium, zirconium).
Tin | No
Titanium | No
Tungsten | No
Vanadium | Yes | Steel slag from vanadiferous iron ore, spent catalysts.
Ytterbium | Yes | Other rare earths, iron ore, heavy mineral sands (titanium, zirconium).
Yttrium | Yes | Other rare earths, iron ore, heavy mineral sands (titanium, zirconium).
Zinc | No
Zirconium | Yes | Titanium, tin.

Mineral commodities were included on the 2025 draft List of Critical Minerals based on a methodology presented in a (USGS) report ⁴ that can be found at the following link: https://doi.org/10.3133/ofr20251047.

The analysis involved an examination of numerous supply chain disruption scenarios and an estimation of their potential effect on U.S. Gross Domestic Product (GDP) using a probabilistic economic impacts model. Consistent with the Department's commitment to Gold Standard Science under Executive Order (E.O.) 14303, the methodology publication is transparent, reproducible, and went through an unbiased peer review process. The Energy Act of 2020, Section 7002(c)(4)(A), defined critical minerals as those which:

(i) are essential to the economic or national security of the United States;

(ii) the supply chain of which is vulnerable to disruption (including restrictions associated with foreign political risk, abrupt demand growth, military conflict, violent unrest, anti-competitive or protectionist behaviors, and other risks through-out the supply chain); and

(iii) serve an essential function in the manufacturing of a product (including energy technology-, defense-, currency-, agriculture-, consumer electronics-, and healthcare-related applications), the absence of which would have significant consequences for the economic or national security of the United States.

Section 7002(a)(3)(B) further defined the term by stating “The term “critical mineral” does not include—(i) fuel minerals; (ii) water, ice, or snow; (iii) common varieties of sand, gravel, stone, pumice, cinders, and clay.”

The 2025 draft List of Critical Minerals reflects those minerals identified through the USGS's methodology and analysis. The 2025 final List of Critical Minerals will be determined after review of public comments and may determine previous critical minerals are no longer critical or include additional minerals designated by the Secretary, beyond those identified in the 2025 draft List of Critical Minerals, consistent with the Secretary's statutory authority. Public comment is specifically welcomed on whether other minerals should be added to this list, with a justification for including any such mineral.

The 2025 E.O. 14154, Unleashing American Energy, directed the Secretary in section 9(c) to “instruct the Director of the U.S. Geological Survey to consider updating the Survey's List of Critical Minerals, including for the potential of including uranium.” Additionally, E.O. 14261 Reinvigorating America's Beautiful Clean Coal Industry and Amending Executive Order 14241 directed the Secretary in section 8(b) to “determine whether metallurgical coal used in the production of steel meets the criteria to be designated as a `critical mineral' under the Act and, if so, shall take steps to place coal on the Department of the Interior Critical Minerals List.” Accordingly, although not required by the Energy Act of 2020, the USGS intends to analyze and provide information to the Secretary on the potential for including uranium and metallurgical coal on the 2025 List of Critical Minerals. This effort will assess the production, processing, trade, and end-use characteristics of these materials, consistent with E.O. 14154 and E.O. 14261 and in support of national energy and industrial policy objectives.

Public comment is specifically welcomed on:

(a) inclusion of metallurgical coal and uranium on the final List of Critical Minerals,

(b) whether other minerals should be added to this list, with a justification for including any such mineral,

(c) merit of moving to an annual update for the USGS technical input to List of Critical Minerals.

The U.S. Government and other organizations may also use other definitions and rely on other criteria to identify a material or mineral as “critical” or otherwise important. The draft list we are publishing today is not intended to replace related terms and definitions of materials that are also deemed strategic, critical, or otherwise important through other assessments (such as definitions related to the National Defense Stockpile, Specialty Materials, and Militarily Critical Materials). In addition, there are many minerals not listed on the 2025 List of Critical Minerals that are important to the U.S. economy. These materials are not considered critical as defined by the Energy Act for a variety of reasons, including that the U.S. meets its needs for these materials largely through domestic mining and processing and thus a supply disruption is considered unlikely. The USGS analyzed the following mineral commodities but is not proposing them for inclusion on the 2025 List of Critical Minerals: arsenic, cadmium, feldspar, gold, helium, iron ore, mica, molybdenum, phosphates, selenium, strontium, and tellurium. Again, the Secretary, consistent with statutory authority, can include these listed mineral commodities and others on the 2025 final List of Critical Minerals.

Mineral criticality is not static, but changes over time. This analysis represents the most recent available data for non-fuel mineral commodities and the current state of the methodology for evaluation of criticality.

Please submit written comments on this draft list by September 25, 2025 to facilitate consideration. Before including your address, phone number, email address, or other personally identifiable information (PII) in your comment, you should be aware that your entire comment, including your PII, may be made publicly available at any time. While you can ask us in your comment to withhold your PII from public review, we cannot guarantee that we will be able to do so.

Authority: The Energy Act of 2020, Section 7002 of Title VII (December 27, 2020).

Endnotes

¹ Final List of Critical Minerals 2018 https://www.federalregister.gov/documents/2018/05/18/2018-10667/final-list-of-critical-minerals-2018.

² 2022 Final List of Critical Minerals https://www.federalregister.gov/documents/2022/02/24/2022-04027/2022-final-list-of-critical-minerals.

³ Energy Act of 2020 (Division Z of the Consolidated Appropriations Act, 2021): https://rules.house.gov/sites/democrats.rules.house.gov/files/BILLS-116HR133SA-RCP-116-68.pdf.

⁴ Nassar, N.T., Pineault, D., Allen, S.M., McCaffrey, D.M., Padilla, A.J., Brainard, J.L., Bayani, M., Shojaeddini, E., Ryter, J.W., Lincoln, S., and Alonso, E., 2025, Methodology and technical input for the 2025 U.S. List of Critical Minerals—Assessing the potential effects of mineral commodity supply chain disruptions on the U.S. economy: U.S. Geological Survey Open-File Report 2025-1047, 32 p., https://doi.org/10.3133/ofr20251047.

Sarah J. Ryker,
Acting Director, U.S. Geological Survey.

[FR Doc. 2025-16311 Filed 8-25-25; 11:15 am]

BILLING CODE 4338-11-P